DEPARTMENT OF THE INTERIOR

National Park Service

[NPS-WASO-NAGPRA-12406; PCU00RP14.R50000-PPWOCRADN0]

Notice of Inventory Completion for Native American Human Remains and Associated Funerary Objects in the Possession of the U.S. Department of the Interior, National Park Service, Natchez Trace Parkway, Tupelo, MS; Correction

AGENCY: National Park Service, Interior.

ACTION: Notice; correction.

Notice is here given in accordance with the Native American Graves Protection and Repatriation Act (NAGPRA), 25 U.S.C. 3003, of the completion of an inventory of human remains and associated funerary objects in the possession of U.S. Department of the Interior, National Park Service, Natchez Trace Parkway, Tupelo, MS. The human remains and cultural items were removed from Madison, Jefferson, and Adams counties, MS.

This notice is published as part of the National Park Service's administrative responsibilities under NAGPRA, 25 U.S.C. 3003(d)(3). The determinations in this notice are the sole responsibility of the Superintendent, Natchez Trace Parkway.

This notice corrects the minimum number of individuals, the number and types of associated funerary objects, the tribes determined to be culturally affiliated, and the spelling of two Indian tribes for a Notice of Inventory Completion previously published in the Federal Register (66 FR 32846-32847, June 18, 2001). A reassessment of the inventory during tribal consultation prior to repatriation revealed an increased number of associated funerary objects and fewer individuals. Following consultation, three additional tribes were determined to have a relationship of shared group identity with the human remains and associated funerary objects.

In the Federal Register (66 FR 32846-32847, June 18, 2001), “Muscogee (Creek) Nation, Oklahoma” is substituted for “Muskogee (Creek) Nation, Oklahoma” wherever the latter occurs.

In the Federal Register (66 FR 32846-32847, June 18, 2001), “United Keetoowah Band of Cherokee Indians” is substituted for “United Keetowah Band of Cherokee Indians” wherever the latter occurs.

In the Federal Register (66 FR 32846-32847, June 18, 2001), paragraphs number 4 through 6 are corrected by substituting the following three paragraphs and inserting the fourth:

The 63 human remains and 1,809 associated funerary objects described below were recovered from three different sites.

In 1963 and 1964, human remains representing 8 individuals were recovered from the Boyd site during an authorized National Park Service project to mitigate construction impacts from the Natchez Trace Parkway. No known individuals were identified. The 59 associated funerary objects are 22 shell beads, 24 pieces of a single Baytown Plain ceramic jar, and 13 ceramic sherds.

The Boyd site is located in Madison County, MS, and consists of a village area and six mounds. On the basis of artifacts recovered during the excavations, the village area was occupied during the Woodland period (A.D. 300-700), while the mounds were built during the Mississippian period (A.D. 1000-1650). The human remains and associated funerary objects were associated with the Mississippian period use of the site. One burial was recovered with fragments of a Baytown Plain ceramic jar, a ceramic type often associated with the Late Woodland and Early Mississippian period (A.D. 700-1200). One burial contained glass beads similar to those found at trading sites and historic Indian villages of the 18th century in Georgia and Alabama. These beads are possibly associated with a historic American Indian Choctaw presence at the site.

In 1949, human remains representing 30 individuals were recovered from the Gordon Mounds site during a legally authorized National Park Service excavation prior to the construction of the Natchez Trace Parkway. No known individuals were identified. The 590 associated funerary objects are 1 Mazique incised cup, 372 vessel fragments, 1 Mazique incised pot, 2 Addis Plain bowls, 1 effigy bowl, 1 core, 200 faunal elements, 2 flakes, 1 piece of shatter, 4 points, 1 flake tool, 1 piece of charcoal, 1 discoidal, 1 celt, and 1 pot.

In the Federal Register (66 FR 32846-32847, June 18, 2001), paragraph number 8 is corrected by substituting the following paragraph and inserting the second:

In 1948, human remains representing one individual were recovered from the Emerald Mound site during legally authorized excavation projects. No known individuals were identified. The 37 associated funerary objects are 25 vessel fragments and 12 faunal elements.

In 1972, human remains representing 24 individuals were recovered from the Emerald Mound site during legally authorized excavation projects. No known individuals were identified. The 1,123 associated funerary objects are 644 vessel fragments, 35 faunal elements, 226 unmodified stones, 89 pieces of daub, 35 flakes, 6 flake tools, 25 fire-cracked rocks, 4 pebble tools, 26 pieces of shatter, 29 cores, and 4 pieces of cinder.

In the Federal Register (66 FR 32846-32847, June 18, 2001), paragraph number 12 is corrected by substituting the following paragraph:

Based on the above mentioned information, the superintendent of Natchez Trace Parkway has determined that, pursuant to 25 U.S.C. 3001(9) the human remains listed above represent the physical remains of 63 individuals of Native American ancestry. The superintendent of Natchez Trace Parkway has also determined that, pursuant 25 U.S.C. 3001(3)(A), the 1,809 objects listed above are reasonably believed to have been placed with or near individual human remains at the time of death or later as part of a death rite or ceremony. Lastly, the superintendent of Natchez Trace Parkway has determined that, pursuant to 25 U.S.C. 3001(2), there is a relationship of shared group identity that can be reasonably traced between the Native American human remains and associated funerary objects recovered from the Boyd site, Gordon Mounds site, and Emerald Mound site, and the Cherokee Nation; Chickasaw Nation; Choctaw Nation of Oklahoma; Mississippi Band of Choctaw Indians; The Muscogee (Creek) Nation; and United Keetoowah Band of Cherokee Indians in Oklahoma.

In the Federal Register (66 FR 32846-32847, June 18, 2001), the last sentence of paragraph number 13 is corrected by substituting the following sentence:

Repatriation of the human remains and associated funerary objects to the Cherokee Nation; Chickasaw Nation; Choctaw Nation of Oklahoma; Mississippi Band of Choctaw Indians; The Muscogee (Creek) Nation; and United Keetoowah Band of Cherokee Indians in Oklahoma may begin after that date if no additional claimants come forward.

Additional Requestors and Disposition

Representatives of any other Indian tribe that believes itself to be culturally affiliated with the human remains and associated funerary objects should contact Dale Wilkerson, Acting Superintendent, Natchez Trace Parkway, 2680 Natchez Trace Parkway, Tupelo, MS 38803, telephone (662) 680-4005, before April 29, 2013. Repatriation of the human remains and associated funerary objects to the Cherokee Nation; Chickasaw Nation; Choctaw Nation of Oklahoma; Mississippi Band of Choctaw Indians; The Muscogee (Creek) Nation; and United Keetoowah Band of Cherokee Indians in Oklahoma may proceed after that date if no additional claimants come forward.

Natchez Trace Parkway is responsible for notifying the Absentee-Shawnee Tribe of Indians of Oklahoma; Alabama-Coushatta Tribe of Texas (previously listed as the Alabama-Coushatta Tribes of Texas); Alabama-Quassarte Tribal Town; Cherokee Nation; Chickasaw Nation; Chitimacha Tribe of Louisiana; Choctaw Nation of Oklahoma; Eastern Band of Cherokee Indians; Eastern Shawnee Tribe of Oklahoma; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); Shawnee Tribe; The Muscogee (Creek) Nation; The Seminole Nation of Oklahoma; Thlopthlocco Tribal Town; Tunica-Biloxi Indian Tribe; and United Keetoowah Band of Cherokee Indians in Oklahoma that this notice has been published.

Dated: February 21, 2013.
Mariah Soriano,
Acting Manager, National NAGPRA Program.

[FR Doc. 2013-07346 Filed 3-28-13; 8:45 am]

BILLING CODE 4312-50-P